DEPARTMENT OF COMMERCE

National Oceanic and Atmospheric Administration

[I.D. 123005B]

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Scallop Committee in January, 2006 to consider actions affecting New England fisheries in the exclusive economic zone (EEZ). Recommendations from this group will be brought to the full Council for formal consideration and action, if appropriate.

DATES: The meeting will be held on Monday, January 23, 2006, at 9 a.m.

ADDRESSES: The meeting will be held at the Hilton Garden Inn, One Thurber Street, Warwick, RI 02886; telephone: (401) 734-9600; fax: (401) 734-9700.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will meet to begin development of a draft Amendment 11 to the Atlantic Sea Scallop Fishery Management Plan. The primary purpose of this amendment is to improve the effectiveness of management in the general category fishery. In addition, it will address the allocation of scallops between the limited access and general category permit holders as well as consider options to change the scallop fishing year. The committee will review and develop issues to present for public comment at scoping meetings scheduled for spring 2006. Draft management alternatives will be developed at future meetings based on scoping comments and specific policy direction from the Council. The committee will also have a closed door session to discuss the formation of an ad-hoc industry advisory panel for general category management.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Dated: December 30, 2005.
Tracey L. Thompson,
Acting Director, Office of Sustainable Fisheries, National Marine Fisheries Service.

[FR Doc. E5-8310 Filed 1-5-06; 8:45 am]

BILLING CODE 3510-22-S